DEPARTMENT OF EDUCATION

Applications for New Awards; National Center for Information and Technical Support for Postsecondary Students With Disabilities Program

AGENCY: Office of Postsecondary Education, Department of Education.

ACTION: Notice.

SUMMARY: The Department of Education (Department) is issuing a notice inviting applications (NIA) for a new award for fiscal year (FY) 2021 for the National Center for Information and Technical Support for Postsecondary Students with Disabilities Program, Assistance Listing Number 84.116D. This notice relates to the approved information collection under OMB control number 1894-0006.

DATES:

Applications Available: September 22, 2021.

Deadline for Transmittal of Applications: October 22, 2021.

Deadline for Intergovernmental Review: December 21, 2021.

ADDRESSES: For the addresses for obtaining and submitting an application, please refer to our Common Instructions for Applicants to Department of Education Discretionary Grant Programs, published in the Federal Register on February 13, 2019 (84 FR 3768), and available at www.govinfo.gov/content/pkg/FR-2019-02-13/pdf/2019-02206.pdf.

FOR FURTHER INFORMATION CONTACT: Shedita Alston, U.S. Department of Education, 400 Maryland Avenue SW, Room 2B194, Washington, DC 20202-4260. Telephone: (202) 453-7090. Email: Shedita.Alston@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purpose of this program is to support a National Center for Information and Technical Support for Postsecondary Students with Disabilities (the Center) to provide technical assistance and information on best and promising practices for students with disabilities as they transition to or attend postsecondary education. Institutions of higher education (IHEs), as well as elementary and secondary schools, have legal obligations under two civil rights laws prohibiting disability discrimination, Section 504 of the Rehabilitation Act of 1973, as amended (Section 504) (29 U.S.C. 794), and the Americans with Disabilities Act of 1990, as amended (ADA) (42 U.S.C. 12101-12213). The technical assistance and information provided by the Center can help students, parents, and educational officials in determining how to meet these obligations and ensure the rights of students with disabilities. In particular, the Center can assist students with disabilities and their families in understanding that in IHEs, students with disabilities have different rights and protections than they had in secondary school under Section 504 and the Individuals with Disabilities Education Act (IDEA), 20 U.S.C. 1400 et seq. Students with disabilities and their parents need to understand the differences in these rights and responsibilities as students with disabilities enter college and pursue postsecondary education. Specifically, unlike students in secondary school, postsecondary students with disabilities are responsible for requesting the academic adjustments, auxiliary aids and services, and other accommodations they need to have equal educational opportunity and are expected to comply with reasonable procedures that an IHE may have concerning documentation of disability and the need for accommodations under Section 504 and the ADA.

Note: A more detailed explanation of the different rights and responsibilities of students with disabilities in secondary school and postsecondary institutions can be found in two pamphlets issued by the Department's Office for Civil Rights: “Transition of Students With Disabilities To Postsecondary Education: A Guide for High School Educators,” available at: https://www2.ed.gov/about/offices/list/ocr/transitionguide.html, and “Students with Disabilities Preparing for Postsecondary Education: Know Your Rights and Responsibilities,” available at: https://www2.ed.gov/about/offices/list/ocr/transition.html.

Priority: This notice contains one absolute priority. In accordance with 34 CFR 75.105(b)(2)(iv), this priority is from section 777(a) of the Higher Education Act of 1965, as amended (HEA) (20 U.S.C. 1140q(a)).

Absolute Priority: For FY 2021 and any subsequent year in which we make awards from the list of unfunded applicants from this competition, this priority is an absolute priority. Under 34 CFR 75.105(c)(3), we consider only applications that meet this priority.

This priority is:

Entities that can demonstrate the experience and capacity to improve postsecondary recruitment, transition, retention, and completion rates of students with disabilities by providing the following:

1. Assistance to students and families. The Center must provide information and technical assistance to students with disabilities and the families of students with disabilities to support students across the broad spectrum of disabilities, including—

(a) Information to assist individuals with disabilities who are prospective students of an IHE in planning for postsecondary education while the students are in secondary school;

(b) Information and technical assistance provided to individualized education program teams (as defined in 20 U.S.C. 1414(d)(1)) for secondary school students with disabilities, and to early outreach and student services programs, including programs authorized under subparts 2, 4, and 5 of title IV of the HEA, to support students across a broad spectrum of disabilities with the successful transition to postsecondary education;

(c) Research-based supports, services, and accommodations which are available in postsecondary settings, including services provided by other agencies such as vocational rehabilitation;

(d) Information on student mentoring and networking opportunities for students with disabilities; and

(e) Effective recruitment and transition programs at postsecondary educational institutions.

2. Assistance to institutions of higher education. The Center must provide information and technical assistance to faculty, staff, and administrators of IHEs to improve the services provided to, the accommodations for, the retention rates of, and the completion rates of, students with disabilities in higher education settings, which may include—

(a) Collection and dissemination of best and promising practices and materials for accommodating and supporting students with disabilities, including practices and materials supported by the grants, contracts, or cooperative agreements authorized under subparts 1, 2, and 3 of title VII, part D, of the HEA (20 U.S.C. 1140q);

(b) Development and provision of training modules for higher education faculty on exemplary practices for accommodating and supporting postsecondary students with disabilities across a range of academic fields, which may include universal design for learning and practices supported by the grants, contracts, or cooperative agreements authorized under subparts 1, 2, and 3 of title VII, part D, of the HEA (20 U.S.C. 1140q); and

(c) Development of technology-based tutorials for higher education faculty and staff, including new faculty and graduate students, on best and promising practices related to support and retention of students with disabilities in postsecondary education.

3. Information collection and dissemination. The Center will be responsible for building, maintaining, and updating a database of disability support services information with respect to IHEs, or for expanding and updating an existing database of disabilities support services information with respect to IHEs. This database must be made available to the general public through a website built to high technical standards of accessibility practicable for the broad spectrum of individuals with disabilities. This database and website must include available information on—

(a) Disability documentation requirements;

(b) Support services available;

(c) Links to financial aid;

(d) Accommodations policies;

(e) Accessible instructional materials;

(f) Other topics relevant to students with disabilities; and

(g) The information in the report described in paragraph (5) below.

4. Disability support services. The Center must work with organizations and individuals with proven expertise related to disability support services for postsecondary students with disabilities to evaluate, improve, and disseminate information related to the delivery of high quality disability support services at IHEs.

5. Review and report. Not later than three years after the establishment of the National Center, and every two years thereafter, the National Center must prepare and disseminate a report to the Secretary and the authorizing committees analyzing the condition of postsecondary success for students with disabilities. The report must include—

(a) A review of the activities and the effectiveness of the programs authorized under title VII, part D of the HEA;

(b) Annual enrollment and graduation rates of students with disabilities in IHEs from publicly reported data;

(c) Recommendations for effective postsecondary supports and services for students with disabilities, and how such supports and services may be widely implemented at IHEs;

(d) Recommendations on reducing barriers to full participation for students with disabilities in higher education; and

(e) A description of the strategies with a demonstrated record of effectiveness in improving the success of such students in postsecondary education.

6. Staffing of the Center. In hiring employees of the National Center, the National Center must consider the expertise and experience of prospective employees in providing training and technical assistance to practitioners.

Note: Websites established or maintained to carry out any project funded under this competition must meet WCAG 2.1 standards (Source: https://www.w3.org/WAI/standards-guidelines/wcag/glance/). Documents posted on grantee websites must, at a minimum, meet the Department's accessibility standards set out at: https://www2.ed.gov/web-guidance/accessibility/index.html.

Definitions: The following definitions are from sections 101 and 103 of the HEA.

Institution of higher education—

(1) Means an educational institution in any State that—

(i) Admits as regular students only persons having a certificate of graduation from a school providing secondary education, or the recognized equivalent of such a certificate, or persons who meet the requirements of section 484(d) of the HEA;

(ii) Is legally authorized within such State to provide a program of education beyond secondary education;

(iii) Provides an educational program for which the institution awards a bachelor's degree or provides not less than a 2-year program that is acceptable for full credit toward such a degree, or awards a degree that is acceptable for admission to a graduate or professional degree program, subject to review and approval by the Secretary;

(iv) Is a public or other nonprofit institution; and

(v) Is accredited by a nationally recognized accrediting agency or association, or if not so accredited, is an institution that has been granted pre-accreditation status by such an agency or association that has been recognized by the Secretary for the granting of pre-accreditation status, and the Secretary has determined that there is satisfactory assurance that the institution will meet the accreditation standards of such an agency or association within a reasonable time; and

(2) Also includes—

(i) Any school that provides not less than a 1-year program of training to prepare students for gainful employment in a recognized occupation and that meets the provision of paragraphs (1)(i), (ii), (iv), and (v); and

(ii) A public or nonprofit private educational institution in any State that, in lieu of the requirement in paragraph (1)(i), admits as regular students individuals—

(A) Who are beyond the age of compulsory school attendance in the State in which the institution is located; or

(B) Who will be dually or concurrently enrolled in the institution and a secondary school.

Universal design for learning means a scientifically valid framework for guiding educational practice that—

(1) Provides flexibility in the ways information is presented, in the ways students respond or demonstrate knowledge and skills, and in the ways students are engaged; and

(2) Reduces barriers in instruction, provides appropriate accommodations, supports, and challenges, and maintains high achievement expectations for all students, including students with disabilities and students who are limited English proficient.

Program Authority: 20 U.S.C. 1140q(a).

Note: Projects will be awarded and must be operated in a manner consistent with the nondiscrimination requirements contained in the Federal civil rights laws.

Applicable Regulations: (a) The Education Department General Administrative Regulations in 34 CFR parts 75, 77, 79, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended in 2 CFR part 3474.

II. Award Information

Type of Award: Cooperative agreement.

Estimated Available Funds: $1,980,000.

Contingent upon the availability of funds and the quality of applications, we may make additional awards in subsequent years from the list of unfunded applications from this competition.

Estimated Average Size of Award: $1,980,000.

Maximum Award: We will not make an award exceeding $1,980,000 for a project period of 48 months.

Estimated Number of Awards: 1.

Note: The Department is not bound by any estimates in this notice.

Project Period: Up to 48 months.

III. Eligibility Information

1. Eligible Applicants: Under section 777(a)(3) of the HEA, an “eligible entity” is an IHE (as defined in this notice); a nonprofit organization; or a partnership of two or more IHEs or organizations, with demonstrated expertise in:

(a) Supporting students with disabilities in postsecondary education;

(b) Technical knowledge necessary for the dissemination of information in accessible formats;

(c) Working with diverse types of IHEs, including community colleges; and

(d) The subjects necessary to support students across the broad spectrum of disabilities.

2.a. Cost Sharing or Matching: This competition does not require cost sharing or matching.

b. Administrative Cost Limitation: This program does not include any program-specific limitation on administrative expenses. All administrative expenses must be reasonable and necessary and conform to Cost Principles described in 2 CFR part 200 subpart E of the Uniform Guidance.

c. Indirect Cost Rate Information: This program uses a restricted indirect cost rate of 8 percent. For more information regarding indirect costs, or to obtain a negotiated indirect cost rate, please see www2.ed.gov/about/offices/list/ocfo/intro.html.

3. Subgrantees: A grantee under this competition may not award subgrants to entities to directly carry out project activities described in its application.

IV. Application and Submission Information

1. Application Submission Instructions: Applicants are required to follow the Common Instructions for Applicants to Department of Education Discretionary Grant Programs, published in the Federal Register on February 13, 2019 (84 FR 3768), and available at www.govinfo.gov/content/pkg/FR-2019-02-13/pdf/2019-02206.pdf, which contains requirements and information on how to submit an application.

2. Intergovernmental Review: This program is subject to Executive Order 12372 and the regulations in 34 CFR part 79. Information about Intergovernmental Review of Federal Programs under Executive Order 12372 is in the application package for this program.

3. Funding Restrictions: We reference regulations outlining funding restrictions in the Applicable Regulations section of this notice.

4. Recommended Page Limit: The application narrative is where you, the applicant, address the selection criteria that reviewers use to evaluate your application. We recommend that you (1) limit the application narrative to no more than 50 pages and (2) use the following standards:

• A “page” is 8.5″ x 11″, on one side only, with 1″ margins at the top, bottom, and both sides.

• Double space (no more than three lines per vertical inch) all text in the application narrative, including titles, headings, footnotes, quotations, references, and captions as well as all text in charts, tables, figures, and graphs.

• Use a font that is either 12 point or larger, and no smaller than 10 pitch (characters per inch).

• Use one of the following fonts: Times New Roman, Courier, Courier New, or Arial.

The recommended page limit does not apply to the cover sheet; the budget section, including the narrative budget justification; the assurances and certifications; or the one-page abstract. However, the recommended page limit does apply to all of the application narrative.

Note: The Budget Information-Non-Construction Programs Form (ED 524) Sections A-C are not the same as the narrative response to the Budget section of the selection criteria.

V. Application Review Information

1. Selection Criteria: The selection criteria for this program are from 34 CFR 75.210 and from section 777(a) of the HEA (20 U.S.C. 1140q(a)). Applicants should address each of the following selection criteria separately for each proposed activity. The selection criteria are worth a total of 100 points; the maximum score for each criterion is noted in parentheses.

(a) Demonstration of Eligibility. (Maximum 25 Points)

(1) The Secretary considers whether the applicant has demonstrated expertise and experience sufficient to meet the requirements to be an eligible entity under section 777(a)(3) of the HEA.

(2) In considering eligibility, the Secretary considers the following factors:

(i) Demonstrated expertise in supporting students with disabilities in postsecondary education;

(ii) Demonstrated expertise in technical knowledge necessary for the dissemination of information in accessible formats;

(iii) Demonstrated expertise in working with diverse types of IHEs, including community colleges; and

(iv) Demonstrated expertise in the subjects necessary to support students across the broad spectrum of disabilities.

(b) Quality of the Project Design. (Maximum 15 Points)

(1) The Secretary considers the quality of the design of the proposed project.

(2) In determining the quality of the design of the proposed project, the Secretary considers the following factors:

(i) The extent to which the design of the proposed project is appropriate to, and will successfully address, the needs of the target population or other identified needs;

(ii) The extent to which the design for implementing and evaluating the proposed project will result in information to guide possible replication of project activities or strategies, including information about the effectiveness of the approach or strategies employed by the project;

(iii) The extent to which the proposed project will establish linkages with other appropriate agencies and organizations providing services to the target population;

(iv) The extent to which the proposed project is designed to build capacity and yield results that will extend beyond the period of Federal financial assistance;

(v) The extent to which performance feedback and continuous improvement are integral to the design of the proposed project.

(vi) The extent to which the design of the proposed project reflects up-to-date knowledge from research and effective practice.

(vii) The extent to which the applicant demonstrates that it has the resources to operate the project beyond the length of the grant, including a multi-year financial and operating model and accompanying plan; the demonstrated commitment of any partners; evidence of broad support from stakeholders (e.g., State educational agencies, teachers' unions) critical to the project's long-term success; or more than one of these types of evidence.

(c) Quality of Project Services. (Maximum 15 Points)

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers:

(i) The extent to which the services to be provided by the proposed project are appropriate to the needs of the intended recipients or beneficiaries of those services;

(ii) The likelihood that the services to be provided by the proposed project will lead to improvements in the achievement of students as measured against rigorous academic standards;

(iii) The extent to which the services to be provided by the proposed project involve the collaboration of appropriate partners for maximizing the effectiveness of project services; and

(iv) The extent to which the technical assistance services to be provided by the proposed project involve the use of efficient strategies, including the use of technology, as appropriate, and the leveraging of non-project resources.

(d) Quality of Project Personnel. (Maximum 15 Points)

(1) The Secretary considers the quality of the personnel who will carry out the proposed project.

(2) In determining the quality of project personnel, the Secretary considers the extent to which the applicant encourages applications for employment from persons who are members of groups that have traditionally been underrepresented based on race, color, national origin, gender, age, or disability.

(3) In addition, the Secretary considers the following factors:

(i) The qualifications, including relevant training and experience, of the project director or principal investigator;

(ii) The qualifications, including relevant training and experience, of key project personnel; and

(iii) The qualifications, including relevant training and experience, of project consultants or subcontractors.

(e) Quality of the Management Plan. (Maximum 10 Points)

(1) The Secretary considers the quality of the management plan for the proposed project.

(2) In determining the quality of the management plan, the Secretary considers the following factors:

(i) The adequacy of the management plan to achieve the objectives of the proposed project on time and within budget, including clearly defined responsibilities, timelines, and milestones for accomplishing project tasks;

(ii) The adequacy of procedures for ensuring feedback and continuous improvement in the operation of the proposed project;

(iii) The adequacy of mechanisms for ensuring high-quality products and services from the proposed project;

(iv) The extent to which the time commitments of the project director and principal investigator and other key project personnel are appropriate and adequate to meet the objectives of the proposed project; and

(v) How the applicant will ensure that a diversity of perspectives are brought to bear in the operation of the proposed project, including those of parents, teachers, the business community, a variety of disciplinary and professional fields, recipients or beneficiaries of services, or others, as appropriate.

(f) Quality of the Project Evaluation. (Maximum 20 Points)

(1) The Secretary considers the quality of the evaluation to be conducted of the proposed project.

(2) In determining the quality of the evaluation to be conducted for the proposed project, the Secretary considers the following factors:

(i) The extent to which the methods of evaluation are thorough, feasible, and appropriate to the goals, objectives, and outcomes of the proposed project;

(ii) The extent to which the methods of evaluation provide for examining the effectiveness of project implementation strategies;

(iii) The extent to which the methods of evaluation include the use of objective performance measures that are clearly related to the intended outcomes of the project and will produce quantitative and qualitative data to the extent possible; and

(iv) The extent to which the methods of evaluation will provide performance feedback and permit periodic assessment of progress toward achieving intended outcomes.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department (34 CFR 100.4, 104.5, 106.4, 108.8, and 110.23).

A panel of three non-Federal reviewers will review and score each application in accordance with the selection criteria. A rank order funding slate will be made from this review. An award will be made in rank order according to the average score received from the combined peer review points.

In a tie-breaking situation under this program, preference will be given to the applicant with the highest score under the “Quality of the Project Design” criterion. If there is still a tie after implementing the first tiebreaker, preference will be given to the applicant with the highest score under the “Quality of Project Services” criterion. If there is still a tie after applying the secondary tiebreaker, preference will be given to the applicant with the highest score under the “Quality of the Management Plan” selection criterion. If there is still a tie after applying a third tiebreaker, preference will be given to the applicant with the highest score under the “Quality of the Project Evaluation” selection criterion.

3. Risk Assessment and Specific Conditions: Consistent with 2 CFR 200.206, before awarding grants under this competition the Department conducts a review of the risks posed by applicants. Under 2 CFR 200.8, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements, please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: Under the Government Performance and Results Act of 1993 and 34 CFR 75.110, the following three performance measures will be used in assessing the performance of the National Center for Information and Technical Support for Postsecondary Students with Disabilities Program:

1. The extent to which the project serves students with disabilities, families of students with disabilities, individualized education program teams, and individualized plan for employment teams, including growth in numbers served over time, and improved user satisfaction ratings with the services received;

2. The extent to which the project provides information and technical assistance to faculty, staff, and administrators of IHEs aimed at improving accommodation, retention, and completion rates of students with disabilities, including growth in the number of persons and institutions served over time, and improved user satisfaction ratings with services received, baseline change over time in retention, and completion rates of students with disabilities at the institutions served; and

3. The extent and growth over time in utilization of the database of disability services information by IHEs, including improved user satisfaction ratings of the accessibility and utility of the information provided.

These measures constitute the Department's indicators of success for this program. Consequently, we advise an applicant for an award under this program to give careful consideration to the operationalization of the measures in conceptualizing the approach and evaluation for its proposed project.

If funded, you will be required to collect and report data in your project's annual performance report (34 CFR 75.590).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or another accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Michelle Asha Cooper,
Acting Assistant Secretary for Postsecondary Education.

[FR Doc. 2021-20496 Filed 9-21-21; 8:45 am]

BILLING CODE 4000-01-P